DEPARTMENT OF COMMERCE

National Oceanic and Atmospheric Administration

[I.D. 030107C]

Atlantic Highly Migratory Species; Exempted Fishing Permits

AGENCY: National Marine Fisheries Service (NMFS), National Oceanic and Atmospheric Administration (NOAA), Commerce.

ACTION: Notice; request for an exempted fishing permit; request for comments.

SUMMARY: NMFS announces the receipt of a request for an exempted fishing permit (EFP) to collect fisheries data from approximately 13 pelagic longline (PLL) vessels fishing in the East Florida Coast and Charleston Bump closed areas. At this time, given the nearly rebuilt status of north Atlantic swordfish and numerous management measures regulating target and bycatch species in the PLL fishery, NMFS is considering issuing the proposed EFP to evaluate bycatch measures in these areas. The applicant states that these data would provide information on circle hook performance, target and bycatch species composition, and allow comparative analysis with historical pelagic longline logbook and observer program data. The applicant states that the goals of these fishing activities are to determine if implementation of new pelagic longline fishing practices justify the resumption of PLL fishing in the selected areas and to catch more of the United States swordfish quota. The proposed activities would occur in Federal waters of the Atlantic Ocean off Florida and South Carolina from the date of issuance through April 2008. NMFS invites comments from interested parties on this EFP request.

DATES: Written comments on the application for an exempted fishing permit must be received by 5 p.m. on April 11, 2007.

ADDRESSES: You may submit comments by any of the following methods:

• Email: SF1.030107C@noaa.gov. Include in the subject line the following identifier: I.D. 030107C.

• Mail: Michael Clark, Highly Migratory Species Management Division (F/SF1), NMFS, 1315 East-West Highway, Silver Spring, MD 20910. Please mark the outside of the envelope “Comments on EFP Application.”

• Fax: (301)713-1917

FOR FURTHER INFORMATION CONTACT: Michael Clark, by phone: (301) 713-2347; fax: (301)713-1917.

SUPPLEMENTARY INFORMATION: EFPs are requested and issued under the authority of the Atlantic Tunas Convention Act (ATCA) (16 U.S.C. 971 et seq.) and the Magnuson Stevens Fishery Conservation and Management Act (1601 U.S.C. 1801 et seq.), which regulate fishing activities of tunas, swordfish, sharks, and billfish. Regulations at 50 CFR Section 635.32 govern scientific research activity, exempted fishing, and exempted educational activity with respect to Atlantic Highly Migratory Species (HMS).

Blue Water Fishermen's Association (applicant) has requested an EFP to collect fisheries data in Federal waters of the Charleston Bump and East Florida Coast closed areas. The area requested for experimental fishing includes the waters approximately 40 nautical miles north of Fort Pierce, FL, beginning at 28° N. latitude and seaward of the Gulf Stream then continuing north and east seaward of the 100-fathom contour to the northern and eastern boundaries of the Charleston Bump closed area. In the Florida East Coast closed area, specific fishing areas would include waters between 28° and 30° N. latitude, seaward of the axis of the Gulf Stream, out to the boundary of the U.S. Exclusive Economic Zone (EEZ). In the Charleston Bump Closed Area, fishing activities would take place seaward of the 100-fathom contour to the northern and eastern boundaries of that closure.

Under this application, target species would include swordfish, yellowfin tuna, albacore tuna, bigeye tuna, dolphin fish, pelagic and coastal sharks, and wahoo. All targeted catch (tunas, swordfish, and sharks) that can be legally landed would be harvested and sold by the vessel owners. Incidental catch of bluefin tuna would be landed consistent with existing regulations. Any mortalities of Atlantic Tunas Convention Act (ATCA) regulated species (i.e., tuna, and swordfish) and sharks would be counted against the appropriate quotas. Non-target species and protected resources (e.g., billfish and sea turtles) would be tagged and released alive, if possible.

NMFS is aware of interactions with leatherback and loggerhead sea turtles that have occurred with PLL gear in these closed areas due to the natural distribution of sea turtles. Sea turtles can be entangled and/or hooked by PLL gear. If the EFP is issued, all mortality and interactions with protected resources would be counted against the Incidental Take Statement (ITS) established by the 2004 Biological Opinion for the PLL fishery.

The applicant specifies that all participating vessels would comply with the following standards: (1) Leaded swivels on every leader placed 2-3 fathoms above the hook, (2) use of 18/0 circle hooks (up to 10 degree offset) and squid or mackerel baits when targeting swordfish, (3) use of 16/0 non-offset circle hooks with squid or whole finfish bait when targeting tunas, and (4) possession of all mandatory equipment for safe handling and release of sea turtles and other non-target catch. The applicant would adhere to all existing regulations concerning deployment of PLL gear.

The applicant is proposing that all fishing activities be monitored by Federal fisheries observers to provide data on longline gear configuration, target and incidental catch, and sea turtle interactions. NMFS currently collects this information on selected PLL vessels by the PLL Observer Program (POP). The applicant is also proposing that observers record all of the animals caught on each set and the location and water temperature corresponding to where each section of gear is set and hauled. Individual length measurements for all catch would be recorded in addition to weight for those animals landed. If the EFP is issued, NMFS would require that all data be submitted via the POP, as well as interim and annual reports to the Highly Migratory Species (HMS) Management Division, as required under the EFP program. The applicant states that this data would allow for comparisons of catch rates for target and bycatch species with historical catch data from this area and time of year to assess the effectiveness of recent changes in the PLL fishery (e.g., bait and hook requirements and safe handling and release gear).

The applicant states that these activities may provide additional information on the efficacy of bycatch reduction measures and resultant catch composition in closed areas. It would also provide the U.S. PLL fleet with additional opportunities to catch more of its swordfish quota.

NMFS closed the East Florida Coast and Charleston Bump time/area closures to PLL gear to reduce bycatch of juvenile swordfish, billfish, and other HMS (e.g., sharks during closed seasons)(65 FR 47214, August 1, 2000). The Charleston Bump Closed Area is a seasonal closure from February through April every year, whereas the East Florida Coast Closed Area is closed year-round to PLL gear.

The regulations that would prohibit the proposed activities include requirements for vessel reporting (50 CFR 635.4) and fishing in a closed area (50 CFR 635.21(c)(2)). All other relevant regulations concerning HMS at 50 part 635 would apply.

NMFS is requesting public comment on this application for an EFP because the fishing activities are proposed to occur in closed areas, specifically the East Florida Coast and Charleston Bump. NMFS requested public comment on its intent to issue HMS exempted fishing, scientific research, public display and chartering permits (71 FR 68557, November 27, 2006). The Notice stated that if NMFS were to receive an application to conduct fishing activities in a closed area, the public would have the opportunity to comment on the issuance of an EFP for such activities prior to NMFS making a determination on whether or not to issue the EFP.

Authority: 16 U.S.C. 971 et seq. and 16 U.S.C. 1801 et seq.

Dated: March 8, 2207.
Alan D. Risenhoover,
Director, Office of Sustainable Fisheries, National Marine Fisheries Service.

[FR Doc. E7-4559 Filed 3-12-07; 8:45 am]

BILLING CODE 3510-22-S